DEPARTMENT OF AGRICULTURE

Natural Resources Conservation Service

[Docket No. NRCS-2015-0004]

Notice of Availability of Draft Programmatic Environmental Assessment for the Voluntary Public Access and Habitat Incentive Program

AGENCY: Natural Resources Conservation Service.

ACTION: Notice of availability of draft environmental assessment for the Voluntary Public Access and Habitat Incentive Program.

SUMMARY: Pursuant to section 102(2)(c) of the National Environmental Policy Act of 1969 (NEPA), as amended (42 U.S.C. 4321 et seq.), the Natural Resources Conservation Service (NRCS) has prepared a draft programmatic environmental assessment (EA) for the Voluntary Public Access and Habitat Incentive Program (VPA-HIP). The purpose of the draft programmatic EA is to briefly review the effects of activities that are likely to occur when NRCS awards future VPA-HIP grant funds so NRCS can decide whether VPA-HIP is likely to result in significant adverse impacts requiring preparation of an Environmental Impact Statement (EIS). NRCS is soliciting comments on the draft programmatic EA from interested parties for 30 days from the date of this notice. Comments may be sent by mail or email to the contact listed below.

DATES: Submit comments on or before May 27, 2015.

ADDRESSES: Send public comments to Andrée DuVarney, National Environmental Coordinator, NRCS, Post Office Box 2890, Washington, DC 20013-2890; email: andree.duvarney@wdc.usda.gov.

FOR FURTHER INFORMATION CONTACT: A copy of the draft programmatic EA can be accessed on the Internet by clicking the appropriate link at www.nrcs.usda.gov/ea. Single copies of the draft programmatic EA or additional information may be obtained by contacting Andrée DuVarney, National Environmental Coordinator, NRCS, Post Office Box 2890, Washington, DC 20013-2890; email: andree.duvarney@wdc.usda.gov.

SUPPLEMENTARY INFORMATION: VPA-HIP is a competitive grants program available to State and Tribal governments. The program is authorized under the Food Security Act of 1985, and governed by regulations at 7 CFR part 1455. The primary objective of VPA-HIP is to support State and Tribal government programs that encourage owners and operators of privately held farm, ranch, and forest land to voluntarily make that land accessible to the public for hunting, fishing, and other wildlife-dependent recreation. Grant recipients may also use VPA-HIP funds to improve habitat on enrolled public-access-program lands.

NRCS expects most habitat improvement actions carried out with VPA-HIP funds to follow NRCS conservation practice standards and fall within existing categorical exclusions. Although VPA-HIP applicants that agree to follow NRCS conservation practice standards will receive preference for acceptance and funding, there is no requirement to do so. Therefore, NRCS has decided to prepare a programmatic EA to review the effects of activities that are likely to occur with VPA-HIP grants.

Proposed Action: The proposed action is to award grants in accordance with 7 CFR part 1455. Under this alternative, NRCS will provide an opportunity for State and Tribal governments to apply for grants to encourage owners and operators of privately held farm, ranch, and forest land to voluntarily make that land accessible to the public for hunting, fishing, and other wildlife-dependent recreation, and to improve and manage fish and wildlife habitat on their land under programs administered by State or Tribal governments. Grants will be awarded through a competitive process.

Alternatives: The draft programmatic EA evaluates the environmental impacts of the proposed action and the no-action alternative. The proposed action is the agency's preferred alternative because it meets the purpose of and need for the project with only minor, short-term adverse impacts to the environment anticipated. The no-action alternative does not meet the purpose and need for the action, and results in more adverse impacts to the environment than the preferred alternative.

Scoping: In developing the draft programmatic EA, NRCS conducted internal scoping with various agency discipline experts, and used experience gained from previous VPA-HIP grants and associated EAs. Potential adverse impacts identified through the scoping process may include localized, temporary, and minor increases in soil erosion, sediment transport, and particulate matter from ground disturbing activities and the use of agricultural equipment during the installation of conservation practices. In the longer term, there will be habitat improvements, and increased recreational and economic benefits.

No public scoping meetings are planned. Comments received from Federal, State or local agencies, Native American Tribes, nongovernmental organizations, and interested citizens within 60 days of the date of this notice will be used to assist in the development of the final EA, and help NRCS determine whether to prepare a Finding of No Significant Impact or an EIS. Comments may be submitted to Ms. Andrée DuVarney, National Environmental Coordinator, NRCS, Post Office Box 2890, Washington, DC 20013-2890; email: andree.duvarney@wdc.usda.gov.

Public Involvement: NRCS invites full public participation to promote open communication and better decision-making. All persons and organizations with an interest in the environmental effects of VPA-HIP grants are urged to comment on the draft programmatic EA. Copies of the comments received will be included in the administrative record without change, and may include any personal information provided unless the commenter indicates that the comment includes information claimed to be confidential business information.

Other Environmental Review and Coordination Requirements: VPA-HIP grant recipients will conduct site-specific evaluations of lands where habitat improvement projects are planned to address project compliance with applicable laws and regulations, including NEPA, the Clean Water Act, the Endangered Species Act, and the National Historic Preservation Act. NRCS will conduct or oversee any required consultation with VPA-HIP grant recipients in accordance with applicable regulations.

Signed this 14th day of April 2015, in Washington, DC.
Jason A. Weller,
Chief, Natural Resources Conservation Service.

[FR Doc. 2015-09639 Filed 4-24-15; 8:45 am]

BILLING CODE 3410-16-P